UNITED STATES INSTITUTE OF PEACE

Sunshine Act Meeting

DATE AND TIME: Thursday, September 28, 2006, 9 a.m.-4 p.m.

LOCATION: 1200 17th Street, NW., Suite 200, Washington, DC 20036-3011.

STATUS: Open Session—Portions may be closed pursuant to Subsection (c) of Section 552(b) of Title 5, United States Code, as provided in subsection 1706(h)(3) of the United States Institute of Peace Act, Public Law 98-525.

AGENDA: September 28, 2006 Board Meeting; Approval of Minutes of the One Hundred Twenty-Third Meeting (June 14, 2006) of the Board of Directors; Chairman's Report; President's Report; Consideration of Recommended Grants; Iraq Study Group Update; Other General Issues.

CONTACT: Tessie F. Higgs, Executive Office, Telephone: (202) 429-3836.

Dated: September 11, 2006.
Patricia P. Thomson,
Executive Vice President, United States Institute of Peace.

[FR Doc. 06-7744 Filed 9-14-06; 11:36 am]

BILLING CODE 6820-AR-M